DEPARTMENT OF HEALTH AND HUMAN SERVICES

National Institutes of Health

National Center for Complementary and Alternative Medicines; Notice of Meeting

Pursuant to section 10(d) of the Federal Advisory Committee Act, as amended (5 U.S.C. Appendix 2), notice is hereby given of the National Advisory Council for Complementary and Alternative Medicine (NACCAM).

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Advisory Council for Complementary and Alternative Medicine.

Date: August 28-29, 2000.

Open: August 28, 2000, 8:30 a.m. to adjournment.

Agenda: The agenda includes the Director's Report and presentation of NCCAM's Draft Strategic Plan, Report on White House Commission on Complementary and Alternative Medicine Policy, Public Comments, and other business of the Council.

Closed: August 29, 2000, 8:30 a.m. to adjournment.

Agenda: To review and evaluate grant applications and/or proposals.

Place: Double Tree Hotel, 1750 Rockville Pike, Rockville, MD.

Contact Person: Richard Nahin, Ph.D., Executive Secretary, National Center for Complementary and Alternative Medicine, National Institutes of Health, 9000 Rockville Pike, Room 5B36, Bethesda, MD 20892, 301-496-4792.

The public comments session is scheduled on August 28 from 1:15 p.m. to 1:45 p.m. Each speaker will be permitted 5 minutes for their presentation. Interested individuals and representatives of organizations are requested to notify Dr. Richard Nahin, National Center for Complementary and Alternative Medicine, NIH, 31 Center Drive, (MSC 2182), Building 31, Room 5B36, Bethesda, Maryland 20892, 301-496-4792, Fax: 301-402-4741. Letters of intent to present comments, along with a brief description of the organization represented, should be received no later than 5 p.m. on August 23, 2000. Only one representative of an organization may present oral comments. Any person attending the meeting who does not request an opportunity to speak in advance of the meeting may be considered for oral presentation, if time permits, and at the discretion of the Chairperson. In addition, written comments may be submitted to Dr. Nahin at the address listed above up to ten calendar days (Sept. 8, 2000) following the meeting.

Copies of the meeting agenda and the roster of members will be furnished upon request by Dr. Richard Nahin, Executive Secretary, NACCAM, National Institutes of Health, Building 31, Room 5B36, 31 Center Drive, Bethesda, Maryland 20892, (301) 496-4792, Fax: 301-402-4741.

This notice is being published less than 15 days prior to the meeting due to the timing limitations imposed by the review and funding cycle.

Dated: August 3, 2000.
LaVerne Y. Stringfield,
Director, Office of Federal Advisory Committee Policy, NIH.

[FR Doc. 00-20384 Filed 8-10-00; 8:45 am]

BILLING CODE 4140-01-M